DEPARTMENT OF THE INTERIOR

Bureau of Indian Affairs

Proposed Agency Information Collection: Indian Reservation Roads Program; Comment Request

AGENCY: Bureau of Indian Affairs, Interior.

ACTION: Notice of proposed renewal of information collection.

SUMMARY: The Bureau of Indian Affairs (BIA) is seeking comments on information collected for the Indian Reservation Roads (IRR) Program pursuant to the Paperwork Reduction Act of 1995. When the rule was approved and published 3 years ago, the information collection was also approved for 3 years. We now must renew that approval so that we can continue to operate the IRR Program. This renewal is necessary for tribal participation in the IRR Program and for the allocation of funding for the IRR Program to federally-recognized tribal governments for transportation assistance.

DATES: Written comments must be received on or before November 14, 2005.

ADDRESSES: Comments should be sent to LeRoy Gishi, Chief, Division of Transportation, 1951 Constitution Avenue, NW., Mail Stop Room 20-SIB, Washington, DC 20240; or faxed to (202) 208-4696.

FOR FURTHER INFORMATION CONTACT: You may request further information or obtain copies of the proposed information collection request from LeRoy Gishi, (202) 513-7711.

SUPPLEMENTARY INFORMATION: This information collection is necessary to allow federally-recognized tribal governments to participate in the Indian Reservation Roads (IRR) Program as defined in 23 U.S.C. 204(a)(1). Some of the information collected determines the allocation of IRR program funds to Indian tribes as described in 23 U.S.C. 202(d)(2)(A).

Request for Comments

The Bureau of Indian Affairs requests your comments on this collection concerning:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section, room 20-SIB, during the hours of 8 a.m. to 4:30 p.m., e.s.t., Monday through Friday, except for legal holidays. If you wish to have your name and/or address withheld, you must state this prominently at the beginning of your comments. We will honor your request according to the requirements of the law. All comments from organizations or representatives will be available for review. We may withhold comments from review for other reasons.

Information Collection Abstract

OMB Control Number: 1076-0161.

Type of Review: Renewal.

Title: 25 CFR 170, Indian Reservation Roads.

Brief Description of Collection: Some of the information such as the application of Indian Reservation Roads High Priority Projects (IRRHPP) (25 CFR 170.210), the road inventory updates (25 CFR 170.443), the development of a long-range transportation plan (25 CFR 170.411 and 170.412), the development of a tribal transportation improvement program and priority list (25 CFR 170.420 and 170.421) are mandatory for consideration of projects and for program funding from the formula. Some of the information such as public hearing requirements is necessary for public notification and involvement (25 CFR 170.437 and 170.439). While others such as data appeals (25 CFR 170.231) and requests for design exceptions (25 CFR 170.456) are voluntary information.

Respondents: Respondents include federally-recognized Indian tribal governments who have transportation needs associated with the IRR Program as described in 25 CFR 170.

Number of Respondents: 562.

Number of Responses: Varies from 10 to 562.

Estimated Time per Response: The reports require from 30 minutes to 40 hours to complete. An average would be 16 hours.

Frequency of Response: Annually or on an as needed basis.

Total Annual Burden to Respondents: 18,828 hours.

Total Annual Cost to Respondents: $188,280.

Dated: September 1, 2005.
Michael D. Olsen,
Principal Deputy Assistant Secretary—Indian Affairs.

[FR Doc. 05-17969 Filed 9-9-05; 8:45 am]

BILLING CODE 4310-LY-P